DEPARTMENT OF COMMERCE

National Oceanic and Atmospheric Administration

Mystery Oil Spill at Ft. Lauderdale, FL and Vicinity, August 8, 2000: Notice of Intent To Conduct Restoration Planning Pursuant to 15 CFR 990.44

AGENCIES: National Oceanic and Atmospheric Administration of the Department of Commerce (NOAA) and Florida Department of Environmental Protection (FDEP).

ACTION: Notice of intent to conduct restoration planning pursuant to the Oil Pollution Act of 1990 for the impacts of the August 2000 mystery oil spill in the Ft. Lauderdale, Florida area.

SUMMARY: Natural resource trustees (Trustees) are designated pursuant to the Oil Pollution Act of 1990, 33 U.S.C. 2706(e), Executive Order 12777, and the National Contingency Plan, 40 CFR 300.600 and 300.605, with responsibility to conduct natural resource damage assessments on behalf of the public when releases of oil affect natural resources and services. A discharge of oil exposed approximately 20 miles of beaches north and south of Ft. Lauderdale, Florida, on or about August 8, 2000. Trustees for this incident are the U.S. Department of the Interior (DOI), FDEP, and NOAA, though DOI has elected not to participate in the assessment. The Trustees have determined that the incident warrants conducting a natural resource damage assessment (NRDA). This notice serves to inform the public that the Trustees are proceeding with the assessment, including restoration planning, and will subsequently seek public input for planning restoration for the injuries resulting from this oil spill. This assessment will be conducted in accordance with the NRDA regulations for oil spills at 15 CFR part 990.

ADDRESSES: A copy of this Notice of Intent, the Trustee Assessment Strategy, and related information is available for downloading at http://www.darp.noaa.gov/publicat.htm, http://www.dep.state.fl.us/law/ber, or http://www.incidentnews.gov/incidents/incident_4.htm. Copies of this notice, and further information relating to the assessment and restoration planning may be obtained by contacting: Jim Jeansonne, NOAA Damage Assessment Center, 9721 Executive Center Drive N., St. Petersburg, FL 33702, Phone: 727-570-5391, X-159, email: Jim.Jeansonne@noaa.gov, or Cathy Porthouse, FDEP Bureau of Emergency Response, P.O. Box 15425, West Palm Beach, FL 33416, Phone: 561-681-6711, Email: Catherine.Porthouse@dep.state.fl.us.

SUPPLEMENTARY INFORMATION: In support of their decision to proceed with the assessment and issue this notice, the Trustees have made several determinations as required by 15 CFR 990.41. First, the Trustees have jurisdiction to pursue restoration pursuant to the Oil Pollution Act. The Trustees have determined that the discharge of 15,000 gallons, or more, of oil which resulted in oil exposure of the marine waters and shorelines of the United States and Florida, was an incident as defined in 15 CFR 990.30. This incident was not permitted under State, Federal or local law. Using information gathered during preassessment, the Trustees have determined that natural resources under their trusteeship have been injured as a result of this incident.

The Trustees have made the further determination required by 15 CFR 990.42(a), that it is appropriate to proceed with restoration planning for this incident. Restoration planning is necessary since injuries have resulted from the incident. The Trustees base this determination upon data that demonstrates natural resources and services have been injured. Natural resources or their services injured as a result of the spill and spill response may include, but are not limited to: Threatened and endangered sea turtles and their habitats, marine surface waters and their biota including fish, birds, other wildlife species, benthic communities, and recreational use of beaches. The spill occurred during the active sea turtle nesting and hatchling emergence season at the exposed beaches. Sea turtles are protected under the Endangered Species Act. Local groups and the response organizations acted quickly to protect sea turtle nests and hatchlings on exposed beaches. However, hatchlings that entered the ocean and began their swim eastward into the Gulf Stream were at risk of oil exposure and injury or death as a result of contact with the oil while transiting the beach and once in the ocean. Other biota in and on the marine waters swept by the oil slick, and in the surf zone of the exposed areas, were likely exposed, and potentially injured or killed as a result of the spilled oil. Public recreational use of several beaches and fishing piers was significantly disrupted. Records of beach recreational use for Ft. Lauderdale, John U. Lloyd State Recreation Area, Dania, and Hollywood beaches indicate there was a significant reduction in attendance for several days until the oil was removed.

Response actions have not adequately addressed, or are not expected to address, the potential injuries from the incident, so restoration planning is required. Response actions were able to remove the majority of the shoreline oil within a few days of oiling. However, response records indicated that deposits of submerged oil were present in sediments just seaward of the most heavily exposed beaches, and that efforts to remove these oil deposits were only partially successful. These response actions did not restore or rehabilitate natural resource injuries that resulted from the discharge of oil. Use of the recreational beaches likely returned to baseline conditions the week following the spill. However, the public has not been compensated for the loss of beach use associated with the incident and response operations.

The Trustees are conducting restoration planning since there are feasible primary and/or compensatory restoration actions available to address the potential injuries. There are many opportunities to restore or compensate for injury to sea turtle and other nearshore marine resources near the affected areas. The Trustees have begun to identify appropriate specific restoration programs and projects for this incident. Multiple opportunities also exist to compensate for lost beach use in the affected area. The Trustees will benefit from restoration planning for similar recreational beach losses associated with the 1993 Tampa Bay oil spill, which is currently in the restoration implementation stage.

Finally, restoration planning is being undertaken since assessment procedures exist to evaluate the injuries and define the appropriate type and scale of restoration for the injured natural resources and services. The Trustees have determined that assessment procedures are available that are appropriate for this incident and that meet the applicable standards for such methods in 15 CFR 990.27. The Trustees have prepared a “Trustee NRDA Assessment Strategy and Action Plan” (Strategy) for this incident. As discussed in the Strategy, the Trustees intend to use a computer model-based method to determine and quantify ecological injuries, while potentially augmenting the model with additional injury data obtained during spill response and preassessment, and from available routine sea turtle monitoring data. For lost public recreational beach use, the Trustees intend to quantify the injury as reduction in beach visits, by use of available beach attendance records and interviews with managers for the affected beaches. The value of lost trips will be derived from appropriate studies within the economics literature and a similar valuation conducted for the 1993 Tampa Bay oil spill NRDA.

The Trustees have begun compiling applicable documents into an Administrative Record that explains the assessment and restoration decision-making process for this incident. Information regarding public access to this record may be obtained by contacting: Cheryl Scannell, NOAA Office of General Counsel, Southeast, phone 727-570-5365, fax: 727-570-5376, email: Cheryl.Scannell@noaa.gov.

This oil spill incident has no identified responsible party. Legal notices were published by the U.S. Coast Guard in south Florida newspapers advertising the process by which Oil Pollution Act claims resulting from this incident, including natural resource damages claims, may be submitted to the Federal Oil Spill Liability Trust Fund for payment, in the absence of a known responsible party.

FOR FURTHER INFORMATION: For further information relating to this notice contact: Jim Jeansonne, NOAA Damage Assessment Center, St. Petersburg, FL, 727-570-5391, X-159, email: Jim.Jeansonne@noaa.gov, or Cathy Porthouse, FDEP Bureau of Emergency Response, West Palm Beach, FL, 561-681-6711, email: Catherine.Porthouse@dep.state.fl.us.

Dated: July 18, 2001.
Jamison S. Hawkins,
Deputy Assistant Administrator for Ocean Services and Coastal Zone Management.

[FR Doc. 01-18755 Filed 7-30-01; 8:45 am]

BILLING CODE 3510-JE-P